SMALL BUSINESS ADMINISTRATION

Senior Executive Service and Senior Level: Performance Review Board Members

AGENCY: U.S. Small Business Administration.

ACTION: Notice of Members for the FY 2018 Performance Review Board.

SUMMARY: The following individuals have been designated to serve on the FY 2018 Performance Review Board for the U.S. Small Business Administration. Members:

1. Delorice Ford (Chair), Assistant Administrator, Office of Hearings and Appeals

2. Barbara Carson, Deputy Associate Administrator, Office of Government Contracting and Business Development

3. Allen Gutierrez, Associate Administrator, Office of Entrepreneurial Development

4. Robert Steiner, Deputy Associate Administrator, Office of Field Operations

5. Auborn Shepard, Associate Administrator, Office of Investment and Innovation

6. Larry Stubblefield, Associate Administrator, Office of Veterans Business Development

7. John Klein, Associate General Counsel for Procurement Law, Office of General Counsel

8. Michael Hershey, Associate Administrator, Office of Congressional and Legislative Affairs

SUPPLEMENTARY INFORMATION:

Authority: Title 5 U.S.C. 4314(c)(4) requires each agency to publish notification of the appointment of individuals who may serve as members of that agency's Performance Review Board.

Linda E. McMahon,
Administrator.

[FR Doc. 2018-23018 Filed 10-24-18; 8:45 am]

BILLING CODE 8025-01-P